NATIONAL ARCHIVES AND RECORDS ADMINISTRATION

Renewal of Advisory Committee on Electronic Records Archives

AGENCY: National Archives and Records Administration.

ACTION: Notice of charter renewal.

SUMMARY: This notice is published in accordance with the provisions of section 9(a)(2) of the Federal Advisory Committee Act (Pub. L. 92-463, 5 U.S.C., App.) and advises of the renewal of the National Archives and Records Administration's (NARA) Advisory Committee on Electronic Records Archives. In accordance with Office of Management and Budget (OMB) Circular A-135, OMB approved the inclusion of the Advisory Committee on Electronic Records Archives in NARA's ceiling of discretionary advisory committees.

FOR FURTHER INFORMATION CONTACT: Mary Ann Hadyka, 301-837-1782.

SUPPLEMENTARY INFORMATION: NARA has determined that the renewal of the Advisory Committee on Electronic Records Archives is in the public interest due to the expertise and valuable advice the Committee members provide on technical, mission, and service issues related to the Electronic Records Archives (ERA). NARA will use the Committee's recommendations on issues related to the development, implementation, and use of the ERA system. NARA's Committee Management Officer (CMO) is Mary Ann Hadyka.

Dated: August 19, 2009.
Adrienne C. Thomas,
Acting Archivist of the United States.

[FR Doc. E9-20392 Filed 8-21-09; 8:45 am]

BILLING CODE 7515-01-P